DEPARTMENT OF COMMERCE

Office of Innovation and Entrepreneurship; The National Advisory Council on Innovation and Entrepreneurship: Meeting of the National Advisory Council on Innovation and Entrepreneurship

AGENCY: Office of Innovation and Entrepreneurship, U.S. Department of Commerce.

ACTION: Notice of an open meeting.

SUMMARY: The National Advisory Committee on Innovation and Entrepreneurship will hold a meeting on Thursday, September 2, 2010. The meeting will be conducted from 9 a.m. to 12 p.m. and will be opened to the public. The Council was chartered on November 10, 2009, to advise the Secretary of Commerce on matters relating to innovation and entrepreneurship in the United States.

DATES: September 2, 2010.

TIME: 9 a.m.-12 p.m. (EDT).

ADDRESSES: Department of Commerce, 1401 Constitution Avenue, NW., Office of the Secretary, Washington, DC 20230. This program will be available to the public via a listen in conference number, 888-942-9574, and passcode, 6315042. Please specify any requests for reasonable accommodation of auxiliary aids at least five business days in advance of the meeting. Last minute requests will be accepted, but may be impossible to fill.

SUPPLEMENTARY INFORMATION: Agenda topics to be discussed include: The nation's capacity for innovation and entrepreneurship; Administration and Department of Commerce priorities related to innovation and entrepreneurship; and strategies for promoting greater innovation and entrepreneurship in the United States. No time will be available for oral comments from members of the public listening to the meeting. Any member of the public may submit pertinent written comments concerning the Council's affairs at any time before and after the meeting. Comments may be submitted to Esther Lee at the contact information indicated below. Copies of Board meeting minutes will be available within 90 days of the meeting.

FOR FURTHER INFORMATION CONTACT: Esther Lee, Director, Office of Innovation and Entrepreneurship, Room 7019, 1401 Constitution Avenue, NW., Washington, DC 20230, telephone: 202-482-4068, e-mail: elee@eda.doc.gov.

Dated: August 18, 2010.
Esther Lee,
Director, Office of Innovation and Entrepreneurship.

[FR Doc. 2010-20876 Filed 8-19-10; 8:45 am]

BILLING CODE 3510-03-P